FEDERAL COMMUNICATIONS COMMISSION

47 CFR Part 73

[DA 03-1845; MM Docket No. 01-78; RM-10080]

Radio Broadcasting Services; Bosque Farms and Grants, NM

AGENCY: Federal Communications Commission.

ACTION: Final rule.

SUMMARY: The Commission, at the request of Educational Media Foundation, downgrades Channel 288C1 to Channel 288C2 at Grants, reallots Channel 288C2 from Grants to Bosque Farms, New Mexico, and modifies Station KQLV(FM)'s license accordingly. We also allot Channel 244C3 at Grant, New Mexico, as the community's third local FM transmission service. Channel can be reallotted to Bosque Farms in compliance with the Commission minimum distance separation requirements with a site restriction of 12.3 kilometers (7.6 miles) southwest to accommodate petitioner's requested site. The coordinates for Channel 288C2 at Bosque Farms are 34-47-55 North Latitude and 106-48-59 West Longitude. Likewise, Channel 244C3 can be allotted to Grants without the imposition of a site restriction. The coordinates for Channel 244C3 at Grants are 35-09-08 North Latitude and 107-50-33 West Longitude. See 66 FR 178844, April 4, 2001. At the request of Christian Country Network, Inc., we dismiss its counterproposal.

DATES: Effective July 14, 2003. A filing window for Channel 244C3 at Grants, New Mexico, will not be opened at this time. Instead, the issue of opening this allotment for auction will be addressed by the Commission in a subsequent Order.

ADDRESSES: Federal Communications Commission, Washington, DC 20554.

FOR FURTHER INFORMATION CONTACT: Sharon P. McDonald, Media Bureau, (202) 418-2180.

SUPPLEMENTARY INFORMATION: This is a synopsis of the Commission's Report and Order, MM Docket No. 01-78, adopted May 28, 2003, and released May 30, 2003. The full text of this Commission decision is available for inspection and copying during normal business hours in the FCC Reference Information Center (Room CY-A257), 445 12th Street, SW., Washington, DC. The complete text of this decision may also be purchased from the Commission's copy contractor, Qualex International, Portals II, 445 12th Street, SW., Room CY-B402, Washington, DC 20054.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

Part 73 of title 47 of the Code of Federal Regulations is amended as follows:

PART 73—RADIO BROADCAST SERVICES

1. The authority citation for part 73 continues to read as follows:

Authority: 47 U.S.C. 54, 303, 334, 336.

§ 73.202 [Amended]

2. Section 73.202(b), the Table of FM Allotments under New Mexico, is amended by adding Channel 288C2 at Bosque Farms, by removing Channel 288C1 at Grants, and by adding Channel 244C3 at Grants.

Federal Communications Commission.
John A. Karousos,
Assistant Chief, Audio Division, Media Bureau.

[FR Doc. 03-15069 Filed 6-13-03; 8:45 am]

BILLING CODE 6712-01-P